NATIONAL TRANSPORTATION SAFETY BOARD

Sunshine Act Meeting Agenda

TIME AND DATE: 9:30 a.m., Wednesday, September 7, 2005.

PLACE: NTSB Board Room, 429 L'Enfant Plaza, SW., Washington, DC 20594.

STATUS: The two items are Open to the Public.

7565A Safety Study: Risk Factors Associated With Weather-Related General Aviation Accidents.

7650A Aviation Accident Report—Crash During Landing, Executive Airlines Flight 5401, Avions de Transport Regional 72-212, N438AT, San Juan, Puerto Rico, May 9, 2004.

NEWS MEDIA CONTACT: Telephone: (202) 314-6100.

Individuals requesting specific accommodations should contact Ms. Carolyn Dargan at (202) 314-6305 by Friday, September 2, 2005.

The public may view the meeting via a live or archived Web cast by accessing a link under “News & Events” on the NTSB home page at http://www.ntsb.gov.

FOR FURTHER INFORMATION CONTACT: Vicky D'Onofrio, (202) 314-6410.

Dated: August 26, 2005.
Vicky D'Onofrio,
Federal Register Liaison Officer.

[FR Doc. 05-17340 Filed 8-26-05; 1:28 pm]

BILLING CODE 7533-01-M